DEPARTMENT OF THE TREASURY

Internal Revenue Service

26 CFR Parts, 1, 31, and 301

[REG-101896-09]

RIN 1545-Bl66

Basis Reporting by Securities Brokers and Basis Determination for Stock

Correction

In proposed rule document E9-29855 beginning on page 67010 in the issue of Thursday, December 17, 2009, make the following corrections:

1. On page 67020, in the second column, under heading 13., in the second line, “exempt”, should read “except”.

§1.6045B-1 [Corrected]

2. On page 67041, in §1.6045B-1(f)Example 1(iii), in the fifth line, “sites” should read “site”.

[FR Doc. C1-2009-29855 Filed 2-5-10; 8:45 am]

BILLING CODE 1505-01-D